SMALL BUSINESS ADMINISTRATION

Washington, DC District Advisory Council: Public Meeting

Pursuant to the Federal Advisory Committee Act, Appendix 2 of Title 5, United States Code, Public Law 92-463, notice is hereby given that the U.S. Small Business Administration, Washington, DC District Advisory Council will host a federal public meeting on Monday, October 22, 2007 from 10 a.m until 12:30 p.m. The meeting will be held at the Washington Metropolitan Area District Office located at 740 15th Street, NW., 3rd Floor, Washington, DC 20005.

The purpose of the meeting is to discuss the district's FY 2008 goals, update on new initiatives and other matters that may be presented by members and staff of the U.S. Small Business Administration's Washington Metropolitan Area District Office or others present.

Anyone wishing to attend or make an oral presentation to the Board must contact Joseph P. Loddo in writing by letter or fax no later than Monday, October 1, 2007. Joseph P. Loddo, District Director, Washington Metropolitan Area District Office, 740 15th Street, NW., 3rd Floor, Washington, DC 20005. Telephone (202) 272-0345 or Fax (202) 481-1656.

Matthew Teague,
Committee Management Officer.

[FR Doc. E7-17527 Filed 9-4-07; 8:45 am]

BILLING CODE 8025-01-P